DEPARTMENT OF HEALTH AND HUMAN SERVICES

Centers for Disease Control and Prevention

Agency for Toxic Substances and Disease Registry

[Program Announcement 03120]

Applied Research on Antimicrobial Resistance: Characterization of Strains of Community-Associated MRSA; Notice of Availability of Funds; Amendment

A notice announcing the availability of Fiscal Year 2003 funds for a grant program to support applied research on antimicrobial resistance was published in the Federal Register dated May 5, 2003, Volume 68, Number 86, pages 23720-23722. The notice is amended as follows: Page 23721, first column, first paragraph, lines five through six, remove the phrase “Multi Locus Sub Typing” and replace with “Multi Locus Sequence Typing”.

Dated: May 12, 2003.
Sandra R. Manning,
Director, Procurement and Grants Office, Centers for Disease Control and Prevention.

[FR Doc. 03-12238 Filed 5-15-03; 8:45 am]

BILLING CODE 4163-18-P